DEPARTMENT OF THE INTERIOR

Bureau of Land Management

[LLUT980300-L11200000-PH0000-24-1A]

Second Call for Nominations to the Utah Resource Advisory Council

AGENCY: Bureau of Land Management, Interior.

ACTION: Notice.

SUMMARY: The purpose of this notice is to request public nominations to fill vacant positions on the Bureau of Land Management (BLM) Utah Resource Advisory Council (RAC), which has two positions with terms expiring on January 12, 2014. The RAC provides advice and recommendations to the BLM on land use planning and management of the National System of Public Lands within Utah. The BLM will accept public nominations for 30 days after the publication of this notice.

DATES: All nominations must be received no later than September 30, 2013.

ADDRESSES: Nominations and completed applications for the Utah RAC should be sent to Sherry Foot, Special Programs Coordinator, BLM Utah State Office, 440 West 200 South, Suite 500, Salt Lake City, UT 84101.

FOR FURTHER INFORMATION CONTACT: Sherry Foot at the address listed in the ADDRESSES section of this notice; by telephone: 801-539-4195; or by email: sfoot@blm.gov. Persons who use a telecommunications device for the deaf (TDD) may call the Federal Information Relay Service (FIRS) at 1-800-877-8339 to leave a message or question with the above individual. The FIRS is available 24 hours a day, 7 days a week. Replies will be received during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member, citizen-based councils that are consistent with the Federal Advisory Committee Act (FACA). As required by FACA, RAC membership must be balanced and representative of the various interests concerned with the management of the public lands.

The two positions to be filled are in the following category:

Category One—Holders of Federal grazing permits and representatives of organizations associated with energy and mineral development, timber industry, transportation or rights-of-way, developed outdoor recreation, off-highway vehicle use, and commercial recreation.

Individuals may nominate themselves or others. Nominees must be residents of Utah. The BLM will evaluate nominees based on their education, training, experience, and knowledge of the geographical area of the RAC. Nominees should demonstrate a commitment to collaborative resource decision making. The Obama Administration prohibits individuals who are currently federally registered lobbyists from being appointed or re-appointed to FACA and non-FACA boards, committees, or councils.

The following must accompany all nominations:

—Letters of reference from represented interests or organizations;

—A completed RAC application; and,

—Any other information that addresses the nominee's qualifications.

Simultaneous with this notice, BLM Utah will issue a press release providing additional information for submitting nominations.

Authority: 43 CFR 1784.4-1.

Jenna Whitlock,
Associate State Director.

[FR Doc. 2013-21097 Filed 8-28-13; 8:45 am]

BILLING CODE 4310-DQ-P